DEPARTMENT OF COMMERCE

National Oceanic and Atmospheric Administration

[I.D. 121905A]

Endangered and Threatened Species; Recovery Plans

AGENCY: National Marine Fisheries Service (NMFS), National Oceanic and Atmospheric Administration, Commerce.

ACTION: Proposed Recovery Plan for the Evolutionarily Significant Unit (ESU) of Puget Sound Chinook Salmon

SUMMARY: The National Marine Fisheries Service (NMFS) announces the availability for public review of a proposed Puget Sound Salmon Recovery Plan (Plan) for the Evolutionarily Significant Unit (ESU) of Puget Sound Chinook Salmon (Oncorhynchus tshawytscha). This Plan consists of a Draft Puget Sound Recovery Plan prepared by the Shared Strategy (Shared Strategy Plan) and a NMFS supplement to the Shared Strategy Plan (Supplement). NMFS is soliciting review and comment on the proposed Plan from the public and all interested parties.

DATES: The comment period for the proposed Puget Sound Salmon Recovery Plan closes on February 27, 2006. NMFS will consider and address all substantive comments received during the comment period. Comments must be received no later than 5 p.m. Pacific Standard. A description of previous public and scientific review, including scientific peer review, can be found in the NMFS Supplement.

ADDRESSES: Please send written comments and materials to Elizabeth Babcock, National Marine Fisheries Service, Salmon Recovery Division, 7600 Sandpoint Way NE Seattle, WA 98115. Comments may be submitted by e-mail. The mailbox address for providing e-mail comments is PugetSalmonPlan.nwr@noaa.gov. Include in the subject line of the e-mail comment the following identifier: Comments on Puget Sound Salmon Plan. Comments may also be submitted via facsimile (fax) to 206-526-6426.

Persons wishing to review the Plan, can obtain an electronic copy (i.e., CD-ROM) from Carol Joyce by calling 503-230-5408, or by e-mailing a request to carol.joyce@noaa.gov, with the subject line CD-ROM Request for Puget Sound Salmon Plan. Electronic copies of the Shared Strategy Plan are also available on-line on the Shared Strategy website www.sharedsalmonstrategy.org.

FOR FURTHER INFORMATION CONTACT: Elizabeth Babcock, NMFS Puget Sound Salmon Recovery Coordinator (206-526-4505), or Elizabeth Gaar, NMFS Salmon Recovery Division (503-230-5434).

SUPPLEMENTARY INFORMATION:

Background

Recovery plans describe actions considered necessary for the conservation and recovery of species listed under the Endangered Species Act of 1973 (ESA), as amended (16 U.S.C. 1531 et seq.). The ESA requires that recovery plans incorporate (1) objective, measurable criteria which, when met, would result in a determination that the species is no longer threatened or endangered; (2) site-specific management actions necessary to achieve the plan's goals; and (3) estimates of the time required and costs to implement recovery actions. The ESA requires the development of recovery plans for listed species unless such a plan would not promote the recovery of a particular species.

NMFS' goal is to restore endangered and threatened Pacific salmon ESUs to the point where they are again secure, self-sustaining members of their ecosystems and no longer need the protections of the ESA. NMFS believes it is critically important to base its recovery plans on the many state, regional, tribal, local, and private conservation efforts already underway throughout the region. The agency's approach to recovery planning has been to support and participate in locally led collaborative efforts involving local communities, state, tribal, and Federal entities, and other stakeholders to develop recovery plans.

On June 30, 2005, the Shared Strategy for Puget Sound presented its locally developed recovery plan (Shared Strategy Plan) to NMFS. The Shared Strategy is a nonprofit organization founded in 1999 to coordinate recovery planning for Puget Sound salmonids. It includes representatives of Federal, state, tribal, and local governments, business, agriculture and forestry industries, conservation and environmental groups, and local watershed planning groups. The Shared Strategy Plan is based on individual watershed recovery plans put together by groups and local governments in 14 watershed planning areas.

By endorsing a locally developed recovery plan, NMFS is making a commitment to implement the actions in it for which we have authority, to work cooperatively on implementation of other actions, and to encourage other Federal agencies to implement plan actions for which they have responsibility and authority. We will also encourage the State of Washington to seek similar implementation commitments from state agencies and local governments. NMFS expects the Plan to help NMFS and other Federal agencies take a more consistent approach to future interagency consultations required by section 7 of the ESA. For example, the Plan will provide greater biological context for the effects that a proposed action may have on the listed ESU. This context will be enhanced by adding recovery plan science to the “best available information” for section 7 consultations. Such information includes viability criteria for the ESU and its independent populations; better understanding of and information on limiting factors and threats facing the ESU; better information on priority areas for addressing specific limiting factors; and better geographic context for where the ESU can tolerate varying levels of risk.

After review of the Shared Strategy Plan, NMFS has added a Supplement, which describes how the Shared Strategy Plan satisfies ESA recovery plan requirements, including qualifications and additional actions that NMFS believes are necessary to support recovery, and describes the agency's intent to use the Shared Strategy Plan as an ESA recovery plan for the Puget Sound. The Plan (including the Shared Strategy Plan and NMFS supplement) is now available for public review and comment. As noted above, it is available at the Shared Strategy website, www.sharedsalmonstrategy.com, and the NMFS Northwest Region Salmon Recovery Division website, www.nwr.noaa.gov/Salmon-Recovery-Planning/ESA-Recovery-Plans/Draft-Plans.cfm. NMFS will consider all substantive comments and information presented during the public comment period (see DATES).

ESU Addressed and Planning Area

The Plan covers the range of the Puget Sound Chinook Salmon ESU (Oncorhynchus tshawytscha), listed as threatened on March 24, 1999 (64 FR 14307). The area covered by the Plan is the 16,000-square-mile Puget Sound Basin, the second largest estuary in the United States. It encompasses twenty major river systems originating in the Cascade mountain range to the east and the Olympic mountain range to the west. The recovery planning area ends at the Canadian border, but includes the San Juan Islands. The Plan focuses on the recovery of Puget Sound Chinook salmon. Many of the actions identified in the Plan will also benefit Hood Canal summer chum salmon, whose geographic range is contained within a portion of the range of Puget Sound Chinook salmon, and bull trout, whose geographic range includes, but is more extensive than, that of Puget Sound Chinook salmon. A draft recovery plan prepared specifically for the Hood Canal Summer-run Chum Salmon ESU was prepared by the Hood Canal Coordinating Council, a regional council of governments, and delivered to NMFS and the State of Washington in November 2005 for review through a separate process. NMFS has begun reviewing that plan and will present its findings for public review in early 2006. As the lead ESA agency for Chinook salmon, NMFS is responsible for reviewing these locally produced recovery plans and deciding whether adoption is merited. The geographic area covered by the Plan also encompasses the entire range of the Puget Sound Steelhead ESU (Oncorhynchus mykiss). NMFS is currently reviewing the status of this ESU under the ESA. The Puget Sound steelhead ESU is not currently listed or proposed for listing. At this time, NMFS is not considering benefits of salmon recovery measures proposed in this Plan for Puget Sound steelhead populations, but may do so in the future.

The Plan

The Plan incorporates the NMFS viable salmonid population (VSP) framework as a basis for biological status assessments and recovery goals for Puget Sound Chinook salmon. The Plan also incorporates the work of the Puget Sound Technical Recovery Team (PSTRT) appointed by NMFS, which provided recommendations on biological criteria for population and ESU viability. The PSTRT set forth scientific conditions that would indicate a high probability of persistence into the future for Puget Sound salmon. The current status of the populations in each watershed was derived through local assessments in consultation with the PSTRT and state and tribal co-managers. The PSTRT review of the Plan is available at www.nwr.noaa.gov/Salmon-Recovery-Planning/ESA-Recovery-Plans/TRT-Review.cfm.

In general, based on updated status evaluations considering the four VSP parameters of abundance, population growth rate, genetic and life history diversity, and spatial structure, the Plan concludes that all of the remaining 22 independent populations of Chinook salmon in Puget Sound are at high risk. Overall abundance has declined substantially from historical levels, many populations are small enough that genetic and demographic risks are likely to be relatively high, and spatial structure and diversity have been greatly decreased.

The Plan provides a roadmap for implementation of recovery actions in the Puget Sound Basin of Washington State. It identifies threats to the Puget Sound Chinook Salmon ESU, includes actions intended to address all the manageable threats, and includes recovery goals and measurable criteria consistent with the ESA. The Plan's initial approach is to target reductions in all manageable threats and to improve the status of all 22 populations of the ESU. As monitoring and evaluation improve our understanding of the effectiveness of various actions and their benefits throughout the life cycle of salmon and steelhead, adjustments may be made through the adaptive management framework described in the Plan (see www.nwr.noaa.gov/Salmon-Recovery-Planning/ESA-Recovery-Plans/Adaptive-Mngmnt.cfm).

A combination of habitat loss and degradation, harvest, hatchery production of salmon and steelhead, hydropower facility construction and operation, and ecological changes have resulted in reduced viability of the Puget Sound Chinook and its eventual listing under the ESA.

The Plan identifies the following key threats to the ESU and recovery actions to reduce them:

1. Habitat: Human activities have altered habitat-forming processes, such as sediment transport, hydrology, organic matter deposition, nutrient and chemical inputs, temperature and light, floodplain dynamics, riparian function, and nearshore dynamics. Major changes in land use have resulted in altered watershed function and extensive degradation of riparian areas, floodplains, and stream habitat. Intertidal habitat has declined by 80 percent and extensive industrial development and armoring of shoreline have reduced juvenile rearing and migration areas as well as food sources for salmon. Several major dams block access to historic Chinook salmon spawning and rearing habitat.

2. Harvest: The Plan reviews the history and effects of commercial and recreational harvest on Puget Sound Chinook and notes that harvest today is managed under the following major management forums: the Pacific Salmon Commission, the Pacific Fisheries Management Council, and the Federal court proceedings of U.S. v. Washington. Current management objectives emphasize survival and recovery of wild salmon populations.

3. Hatcheries: The Plan reviews risks to the listed ESU from hatchery production, which include genetic effects that reduce fitness and survival, ecological effects such as competition and predation, facility effects on passage and water quality, mixed stock fishery effects, and masking the true status of naturally produced fish. The Plan describes recent efforts toward hatchery reform and refers to the Chinook Hatchery Resource Management Plan and NMFS' Chinook Hatchery and Genetic Management Plans for actions to help recover natural populations and reconfigure production-based hatchery programs to minimize impacts on natural populations.

4. Additional Factors: The Plan reviews the following additional factors that affect Puget Sound salmon: global climate change, fluctuating ocean cycles, and marine mammal interactions. These considerations further support recovery actions to protect and restore local habitat conditions as a buffer against larger-scale changes.

5. Integration across all the Hs (Habitat, Harvest, Hatcheries): The Plan states that recovery will depend on integrating actions that address habitat, harvest, and hatcheries and working together to adjust approaches and actions over time as population conditions change. The Plan calls for advancing the work on all-H integration in the first years of plan implementation.

The Plan identifies substantive actions needed to achieve recovery by addressing the threats to the species. The Plan also incorporates an adaptive management framework by which Plan actions and other elements will evolve and adapt to information gained as a result of monitoring and evaluation. The Plan anticipates that future actions will be influenced by additional analysis of costs and effectiveness of recovery actions to maximize efficiency.

The long-term goal is to achieve viable salmonid populations, i.e. to achieve self-sustaining populations of Puget Sound Chinook salmon in terms of abundance, productivity, spatial distribution, and diversity.

Because of the complexity and extent of the changes necessary to reach the recovery targets and the technical and policy uncertainties associated with the long term, policymakers chose to focus on developing a ten-year work plan within the context of the overall recovery need, while recognizing that recovery could take much longer. Since the existing 22 independent Puget Sound Chinook salmon populations are currently at high risk of extinction, the short-term goal is to improve conditions for all the populations and to get on a trajectory toward recovery early in implementation. Additional goals in this timeframe include implementing and evaluating the set of short-term strategies and priority actions identified; gaining a preliminary view of the status and trends of important recovery indicators; and making mid-course corrections as needed. In ten years, watershed and regional leaders will put forward the next set of strategies and actions toward achieving the long-term goal.

An implementation schedule is incorporated into the Plan. The first step involves further coordination among the Shared Strategy, local watershed groups, and various decision makers and responsible entities to develop an adaptive management and monitoring program that is integrated at the watershed and regional level.

Public Comments Solicited

NMFS solicits written comments on the proposed Recovery Plan, including the Shared Strategy Plan and the Supplement. The Supplement states NMFS' assessment of the Shared Strategy Plan's relationship to ESA requirements for recovery plans and specifies recovery (de-listing) criteria for the ESU. The Supplement also explains the agency's intent to use the Shared Strategy Plan to guide and prioritize Federal recovery actions in the ESU and to ultimately adopt the Shared Strategy Plan as a final ESA recovery plan for the ESU. All substantive comments received by the date specified above will be considered prior to NMFS' decision whether to endorse the Plan as a final recovery plan. Additionally, NMFS will provide a summary of the comments and responses and notice of the final Plan. NMFS seeks comments particularly in the following areas: (1) the analysis of limiting factors and threats; (2) the recovery strategies and measures; (3) the criteria for removing the ESU from the Federal list of endangered and threatened wildlife and plants; and (4) meeting the ESA requirement for estimates of time and cost to implement recovery actions by soliciting implementation schedules.

Authority

The authority for this action is section 4(f) of the Endangered Species Act (16 U.S.C. 1531 et seq.).

Dated: December 20, 2005.
Angela Somma,
Chief, Division of Endangered Species, Office of Protected Resources, National Marine Fisheries Service.

[FR Doc. E5-7852 Filed 12-23-05; 8:45 am]

BILLING CODE 3510-22-S